DEPARTMENT OF AGRICULTURE

Forest Service

Okanogan-Wenatchee National Forest; Okanogan, Chelan and Skagit Counties, Washington; Pack Stock Outfitter Guide Special Use Permits Supplemental Environmental Impact Statement

AGENCY: Forest Service, USDA.

ACTION: Notice of intent to prepare a supplement to a final environmental impact statement.

SUMMARY: Notice is hereby given that the USDA, Forest Service will prepare a Supplemental Environmental Impact Statement (SEIS) to update and correct the Pack and Saddle Stock Outfitter-Guide Special Use Permit Issuance Final Environmental Impact Statement (FEIS). The Notice of Availability for the FEIS was published on March 8, 2013 (FR Vol. 78, No. 46, 15011). The Record of Decision for the FEIS was withdrawn in June 2013, after appeals were filed, and Regional Office review found portions of the analysis needed correction. The Supplemental Environmental Impact Statement will evaluate a modification of FEIS Alternative 4 and make other corrections to provide pack stock outfitter and guide services on the Methow Valley, Chelan and Tonasket Ranger Districts of the Okanogan-Wenatchee National Forest.

DATES: The draft supplemental environmental impact statement is expected in October 2016 and the final supplemental environmental impact statement is expected February 2017.

FOR FURTHER INFORMATION CONTACT: Jennifer Zbyszewski, Project Team Leader, Methow Valley Ranger District, Okanogan-Wenatchee National Forest, (509) 996-4021, jzbysewski@fs.fed.us, or Paul Willard, Recreation Program Manager, Chelan Ranger District, Okanogan-Wenatchee National Forest, (509)682-4960, pwillard@fs.fed.us. Individuals who use telecommunication devices for the deaf (TDD) may call the Federal Information Relay Service (FIRS) at 1-800-877-8339 between 8 a.m. and 8 p.m., Eastern Time, Monday through Friday.

SUPPLEMENTARY INFORMATION: Scoping is not required for supplements to environmental impact statements [40 CFR 1502.9(c)(4)] and will not be conducted because of the limited nature of the additional analysis needed.

The SEIS will be modified based on a new 2016 Needs Assessment and Extent Necessary Determination; the 2012 Needs Assessment was revised to more accurately calculate the extent of commercial services necessary in wilderness. FEIS Alternative 4 was modified to reduce the service days available in the Pasayten Wilderness to 1,640, and in the Lake Chelan-Sawtooth to 737 based on the 2016 Needs Assessment. The SEIS will also supplement, clarify, and update other information in the FEIS.

The Responsible Official is Michael R. Williams, Forest Supervisor, Okanogan-Wenatchee National Forest, 215 Melody Lane, Wenatchee, WA 98801.

The Responsible Official will decide whether or not to issue term permits to the outfitters described in the proposed action presented in the FEIS and SEIS based on one or a combination of alternatives in the FEIS and/or SEIS. He will also decide what, if any, mitigation measures and monitoring are needed. The criteria that will be used to select among the alternatives are: (1) To what extent each alternative responds to applications for special use permits in a manner that provides stability to outfitter-guide businesses to allow financial commitments necessary to continue to provide public service; (2) the extent to which each alternative meets the minimum extent necessary for commercial services in Wilderness, to provide for wilderness appropriate activiteis, and protect wilderness character while providing pack and saddle stock outfitter-guide commercial services in the Pasayten and Lake Chelan-Sawtooth Wilderness areas; (3) the extent to which each alternative adesignates an amount of campsite barren core in wilderness used by the pack and saddle stock outfitter-guide that is compatible with party size, and (4) the effects of each alternative on the environment, particularly those aspects of the environment identified as Significant Issues.

In the final SEIS, the Forest Service is required to respond to comments and responses received during the comment period that pertain to the environmental consequences discussed in the draft SEIS and applicable laws, regulations, and policies considered in making a decision regarding the proposal. The Forest Supervisor for the Okanogan-Wenatchee National Forest will be the Federal responsible official for this SEIS. The new Record of Decision will be based on both the FEIS and SEIS, and the Forest Supervisor's decision will be subject to objection pursuant to 36 CFR 218.

Dated: August 19, 2016.
Michael R. Williams,
Forest Supervisor, Okanogan-Wenatchee National Forest.

[FR Doc. 2016-20487 Filed 8-25-16; 8:45 am]

BILLING CODE 3411-15-P